DEPARTMENT OF THE INTERIOR

Bureau of Land Management

[LLWO2200000.L10200000.PK0000.00000000]

Renewal of Approved Information Collection; OMB Control No. 1004-0019

AGENCY: Bureau of Land Management, Interior.

ACTION: 30-Day notice and request for comments.

SUMMARY: The Bureau of Land Management (BLM) has submitted an information collection request to the Office of Management and Budget (OMB) to continue the collection of information regarding the construction and maintenance of range improvement projects. The respondents include holders of BLM grazing permits or grazing leases; affected individuals and households; and affected tribal, state, and county agencies. The Office of Management and Budget (OMB) previously approved this information collection activity, and assigned it control number 1004-0019.

DATES: The OMB is required to respond to this information collection request within 60 days but may respond after 30 days. For maximum consideration, written comments should be received on or before November 7, 2016.

ADDRESSES: Please submit comments directly to the Desk Officer for the Department of the Interior (OMB #1004-0019), Office of Management and Budget, Office of Information and Regulatory Affairs, fax 202-395-5806, or by electronic mail at OIRA_submission@omb.eop.gov. Please provide a copy of your comments to the BLM. You may do so via mail, fax, or electronic mail.

Mail: U.S. Department of the Interior, Bureau of Land Management, 1849 C Street NW., Room 2134LM, Attention: Jean Sonneman, Washington, DC 20240.

Fax: to Jean Sonneman at 202-245-0050.

Electronic mail: jesonnem@blm.gov.

Please indicate “Attn: 1004-0019” regardless of the form of your comments.

FOR FURTHER INFORMATION CONTACT: Kimberly Hackett, at 202-912-7216. Persons who use a telecommunication device for the deaf may call the Federal Information Relay Service at 1-800-877-8339, to leave a message for Ms. Hackett. You may also review the information collection request online at http://www.reginfo.gov/public/.

SUPPLEMENTARY INFORMATION: The Paperwork Reduction Act (44 U.S.C. 3501-3521) and OMB regulations at 5 CFR part 1320 provide that an agency may not conduct or sponsor a collection of information unless it displays a currently valid OMB control number. Until OMB approves a collection of information, you are not obligated to respond. In order to obtain and renew an OMB control number, Federal agencies are required to seek public comment on information collection and recordkeeping activities (see 5 CFR 1320.8(d) and 1320.12(a)).

As required at 5 CFR 1320.8(d), the BLM published a 60-day notice in the Federal Register on March 30, 2016 (81 FR 17728), and the comment period ended May 31, 2016. The BLM received one comment. The comment was a general invective about the Federal government, the Department of the Interior, and the BLM. It did not address, and was not germane to, this information collection. Therefore, we have not changed the collection in response to the comment. The BLM now requests comments on the following subjects:

1. Whether the collection of information is necessary for the proper functioning of the BLM, including whether the information will have practical utility;

2. The accuracy of the BLM's estimate of the burden of collecting the information, including the validity of the methodology and assumptions used;

3. The quality, utility and clarity of the information to be collected; and

4. How to minimize the information collection burden on those who are to respond, including the use of appropriate automated, electronic, mechanical, or other forms of information technology.

Please send comments as directed under ADDRESSES and DATES. Please refer to OMB control number 1004-0019 in your correspondence. Before including your address, phone number, email address, or other personal identifying information in your comment, you should be aware that your entire comment—including your personal identifying information—may be made publicly available at any time. While you can ask us in your comment to withhold your personal identifying information from public review, we cannot guarantee that we will be able to do so.

The following information pertains to this request:

Title: Grazing Management: Range Improvements Agreements and Permits (43 CFR Subpart 4120).

OMB Control Number: 1004-0019.

Summary: This request pertains to range improvements on public lands managed by the BLM. Range improvements enhance or improve livestock grazing management, improve watershed conditions, enhance wildlife habitat, or serve similar purposes. At times, the BLM may require holders of grazing permits or gazing leases to install range improvements to meet the terms and conditions of their permits or leases. Operators may also come to the BLM with proposals for range improvements. Often the BLM, operators, and other interested parties work together and jointly contribute to construction of range improvements in order to facilitate improved grazing management or enhance other multiple uses. Cooperators may include lenders which provide the funds that operators contribute for improvements.

Frequency of Collection: On occasion.

Forms:

• Form 4120-6 (Cooperative Range Improvement Agreement); and

• Form 4120-7 (Range Improvement Permit).

Description of Respondents: Holders of BLM grazing permits or grazing leases; affected individuals and households; and affected tribal, state, and county agencies.

Estimated Annual Responses: 1,110.

Estimated Annual Burden Hours: 1,640.

Estimated Annual Non-Hour Costs: None.

The estimated burdens are itemized in the following table:

A. Type of response | B. Number of responses | C. Hours per response | D. Total hours (column B × column C)
Cooperative Range Improvement Agreement 43 CFR 4120.3-2 Form 4120-6 and related non-form information | 500 | 2 | 1,000
Range Improvement Permit 43 CFR 4120.3-3 Form 4120-7 and related non-form information | 30 | 2 | 60
Affected Public/Individuals and Households 43 CFR 4120.5-1 | 50 | 1 | 50
Affected Public/Tribal, State, and County Agencies 43 CFR 4120.5-2 | 530 | 1 | 530
Total | 1,110 |  | 1,640

Jean Sonneman,
Information Collection Clearance Officer, Bureau of Land Management.

[FR Doc. 2016-24152 Filed 10-5-16; 8:45 am]

BILLING CODE 4310-84-P